DEPARTMENT OF JUSTICE

Antitrust Division

Notice Pursuant to the National Cooperative Research and Production Act of 1993—The Digital Dollar Project, Inc.

Notice is hereby given that, on June 9, 2022 pursuant to Section 6(a) of the National Cooperative Research and Production Act of 1993, 15 U.S.C. 4301 et seq. (“the Act”), the Digital Dollar Project, Inc. (“DDP”) has filed written notifications simultaneously with the Attorney General and the Federal Trade Commission disclosing (1) the identities of the members of the venture and (2) the nature and objectives of the venture. The notifications were filed for the purpose of the Act's provisions limiting the recovery of antitrust plaintiffs to actual damages under specified circumstances.

Pursuant to Section 6(b) of the Act, the identities of the venture are: Visa, Inc., Palo Alto, CA; The Depository Trust & Clearing Corporation, Jersey City, NJ; Western Union, Denver, CO; Feed the Children, Oklahoma City, OK; GBBC-Global Blockchain Business Council, Washington, DC; and Knox Networks Inc., Woodbury, MN.

The general area of DDP's planned activity is to encourage research and public discussion on the potential advantages of a digital dollar, convene private sector thought leaders and actors, and propose possible models to support the public sector, and to carry on such other activities as the Board of Directors may from time to time approve.

Membership in DDP remains open and DDP intends to file additional written notifications disclosing all changes in membership.

Suzanne Morris,
Chief, Premerger and Division Statistics, Antitrust Division.

[FR Doc. 2022-16431 Filed 7-29-22; 8:45 am]

BILLING CODE 4410-11-P